FEDERAL COMMUNICATIONS COMMISSION

47 CFR Parts 1, 27, and 101

[WT Docket Nos. 12-70 and 04-356; ET Docket No. 10-142; FCC 12-151]

Service Rules for Advanced Wireless Services in the 2000-2020 MHz and 2180-2200 MHz Bands, etc.

AGENCY: Federal Communications Commission.

ACTION: Final rule; announcement of effective date.

SUMMARY: In this document, the Commission announces that the Office of Management and Budget (OMB) has approved, for a period of three years, the information collection associated with the Commission's Report and Order (R&O), Service Rules for Advanced Wireless Services in the 2000-2020 MHz and 2180-2200 MHz Bands, etc.

This notice is consistent with the R&O, which stated that the Commission would publish a document in the Federal Register announcing the effective date of those rules.

DATES: The amendments to §§ 1.949, 27.14, 27.17, 27.1131, 27.1134, 27.1136, 27.1166, 27.1168, 21.1170, 101.69, and 101.73(d) that appeared in the Federal Register at 78 FR 8229, February 5, 2013, are effective on August 9, 2013.

FOR FURTHER INFORMATION CONTACT: Kevin Holmes, Wireless Telecommunications Bureau, Broadband Division, at (202) 418-BITS or by email at Kevin.Holmes@fcc.gov.

SUPPLEMENTARY INFORMATION: This document announces that, on July 31, 2013, OMB approved, for a period of three years, the information collection requirements contained in the Commission's R&O, FCC 12-151, published at 78 FR 8229 on February 5, 2013. The OMB Control Number is 3060-1030. The Commission publishes this notice as an announcement of the effective date of the rules. If you have any comments on the burden estimates listed below, or how the Commission can improve the collections and reduce any burdens caused thereby, please contact Judith B. Herman at (202) 418-0214 or via email at Judith-B.Herman@fcc.gov. Please include the OMB Control Number, 3060-1030, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 31, 2013, which contained new or modified information collection requirements, in 47 CFR 1.949, 27.14, 27.17, 27.1131, 27.1134, 27.1136, 27.1166, 27.1168, 21.1170, 101.69, and 101.73(d), which would not be effective until approved by the Office of Management and Budget. The information collection was adopted in the Report and Order in WT Docket Nos. 12-70 and 04-356; ET Docket No. 10-142, FCC 12-151, which appears at 78 FR 8229, February 5, 2013, adopts flexible use rules for 40 megahertz of spectrum in the 2 GHz band (2000-2020 MHz and 2180-2200 MHz) that would increase the nation's supply of spectrum for mobile broadband. Also, we adopted AWS-4 terrestrial service, technical, and licensing rules that generally follow the Commission's part 27 flexible use rules, modified as necessary to account for issues unique to the AWS-4 bands. First, we establish 2000-2020 MHz paired with 2180-2200 MHz as the AWS-4 band plan. In addition, we adopted appropriate technical rules for operations in the AWS-4 band. This includes rules governing the relationship of the AWS-4 band to other bands. Third, mindful that AWS-4 spectrum is now allocated on a co-primary basis for Mobile Satellite and for terrestrial Fixed and Mobile services and that MSS licensees already have authorizations to provide service in the band, we determined that the AWS-4 rules must provide for the protection of 2 GHz MSS systems from harmful interference caused by AWS-4 systems. Fourth, consistent with our determination below to grant AWS-4 terrestrial operating authority to the incumbent 2 GHz MSS licensees, we proposed to assign terrestrial rights by modifying the MSS operators' licenses pursuant to section 316 of the Communications Act. Fifth, we adopted performance requirements for the AWS-4 spectrum. Specifically, licensees of AWS-4 operating authority will be subject to build-out requirements that require a licensee to provide terrestrial signal coverage and offer terrestrial service to at least 40 percent of its total terrestrial license areas' population within four years, and to at least 70 percent of the population in each of its license areas within seven years, and to appropriate penalties if these benchmarks are not met. Sixth, we adopted a variety of regulatory, licensing, operating, and relocation and cost sharing requirements for licensees of AWS-4 operating authority. Seventh, we eliminated the ATC rules for the 2 GHz MSS band and propose to modify the 2 GHz MSS operators' licenses to eliminate their ATC authority. In so doing, the AWS-4 Report and Order would carry out a recommendation in the National Broadband Plan that the Commission enables the provision of stand-alone terrestrial services in the 2 GHz Mobile Satellite Service (MSS) spectrum band, thus dramatically increasing the value of this spectrum to the public. The AWS-4 Report and Order would remove regulatory barriers to mobile broadband use of this spectrum; would adopt service, technical, and licensing rules that would encourage innovation and investment in mobile broadband; and would provide certainty and a stable regulatory regime for the rapid deployment of wireless broadband.

The effective date of the rules adopted in that Report and Order was published as March 7, 2013, except for §§ 1.949, 27.14, 27.17, 27.1131, 27.1134, 27.1136, 27.1166, 27.1168, 21.1170, 101.69, and 101.73(d). Through this document, the Commission announces that it has received this approval (OMB Control No. 3060-1030, Expiration Date: July 31, 2016) and that §§ 1.949, 27.14, 27.17, 27.1131, 27.1134, 27.1136, 27.1166, 27.1168, 21.1170, 101.69, and 101.73(d) will become effective August 9, 2013.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-1030. The foregoing notice is required by the Paperwork Reduction Act of 1995, Public Law 104-13, October 1, 1995, and 44 U.S.C. 3507.

The total annual reporting burdens and costs for the respondents are as follows:

OMB Control Number: 3060-1030.

OMB Approval Date: July 31, 2013.

OMB Expiration Date: July 31, 2016.

Title: Service Rules for Advanced Wireless Services (AWS) in the 1.7 GHz and 2.1 GHz.

Form Number: N/A.

Respondents: Business or other for-profit entities, not-for-profit institutions, Federal Government, and state, local or tribal government.

Number of Respondents: 979 respondents; 1,625 responses.

Estimated Time per Response: .25 hours to 5 hours.

Frequency of Response: On occasion, annual and every 10 year reporting requirements, recordkeeping requirement and third party disclosure requirement.

Obligation to Respond: Required to obtain or retain benefits. Statutory authority for this information collection is contained in 47 U.S.C. 151, 152, 154(i), 201, 301, 302, 303(f), 303(g), 303(r), 307, 308, 309, 310, 316, 319, 324, 332, and 333 of the Communications Act of 1934, as amended; and the Commercial Spectrum Enhancement Act (CSEA), Public Law 108-494, 118 Stat. 3896, 3992 (2004).

Total Annual Burden: 32,386 hours.

Total Annual Cost: $581,800.

Privacy Impact Assessment: N/A.

Nature and Extent of Confidentiality: There is no need for confidentiality except as follows: some relocators that seek reimbursement through the FCC cost-sharing plan administered by the clearinghouses will be required to retain records for more than three years, as will the clearinghouses themselves.

Needs and Uses: The information collection requirements which were not effective until approved by the Office of Management and Budget apply to the rules listed in the DATES sections.

Federal Communications Commission.
Marlene H. Dortch,
Secretary.

[FR Doc. 2013-19355 Filed 8-8-13; 8:45 am]

BILLING CODE 6712-01-P